DEPARTMENT OF TRANSPORTATION

Federal Motor Carrier Safety Administration

[Docket No. FMCSA-2014-0377]

Agency Information Collection Activities; New Information Collection Request: Electronic Logging Device (ELD) Registration

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment on the approval of a new (ICR) entitled, Electronic Logging Device Registration. This ICR will be used to enable providers to register their ELDs with FMCSA.

DATES: Please send your comments by May 4, 2015. OMB must receive your comments by this date in order to act on the ICR.

ADDRESSES: All comments should reference Federal Docket Management System (FDMS) Docket Number FMCSA-2014-0377. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Brian Routhier, Transportation Specialist, Technology Division, Office of Analysis, Research and Technology, Federal Motor Carrier Safety Administration, Department of Transportation, West Building 6th Floor, 1200 New Jersey Avenue SE., Washington, DC 20590. Telephone: 202-366-1225; email brian.routhier@dot.gov. Office hours are from 9:00 a.m. to 5 p.m., Monday through Friday, except Federal holidays.

SUPPLEMENTARY INFORMATION:

Title: Electronic Logging Device (ELD) Registration.

OMB Control Number: 2126-00XX.

Type of Request: New Collection.

Respondents: ELD providers.

Estimated Number of Respondents: 22. FMCSA estimates that there will be 22 respondents, 20 U.S. and 2 foreign ELD providers, and that each provider will register an average of 4 devices. The total of 88 devices (4 devices × 22 providers) exceeds the number of devices that FMCSA is currently aware of, but the Agency has opted to use a conservatively high count in order to avoid under-estimating the burden for this ICR.

Estimated Time per Response: 15 minutes first year and 7.5 minutes in subsequent years. Each provider will take an estimated 15 minutes of preparation time plus 15 minutes per device to complete the initial registration, for a total of 75 minutes per provider in the first year (15 minutes of preparation time + (4 devices per provider × 15 minutes per device) = 75 minutes). In subsequent years, it is estimated that registration updates will take half the initial time, for a total of 37.5 minutes per provider (7.5 minutes of preparation time + (4 devices per provider x 7.5 minutes per device) = 37.5 minutes).

Expiration Date: N/A. This is a new ICR.

Frequency of Response: On occasion.

Estimated Total Annual Burden: 18 hours [((22 respondents × 75 minutes in year 1) + (22 respondents × 37.5 minutes in year 2) + (22 respondents × 37.5 minutes in year 3)) = 3,300 minutes ÷ 60 minutes per hour = 55 ÷ 3 year approval period = 18.33 hours, rounded to 18 hours].

Background

On March 28, 2014, FMCSA published a supplemental notice of proposed rulemaking (SNPRM) entitled, “Electronic Logging Devices and Hours of Service Supporting Documents,” (79 FR 17656). Specifically, the SNPRM proposed: (1) New technical specifications for ELDs that address statutory requirements; and (2) to require the use of ELDs by those within the motor carrier industry who are currently subject to Records of Duty Status (RODS) preparation requirements. To ensure consistency among manufacturers and devices, functional specifications were published with the SNPRM. The SNPRM would require providers to certify their compliance with these functional specifications. Providers would also be required to register their compliant devices with FMCSA.

The ELD providers will be asked to certify and register their devices with FMCSA online via an application Form MCSA-5893, “Electronic Logging Device (ELD) Registration and Certification.” FMCSA expects 100 percent of respondents to submit their information electronically. Once the registration is completed, FMCSA will issue the provider a unique identification number that the provider will embed in its device(s).

The FMCSA will maintain a list on its Web site of the current ELD providers and devices that have been certified (by the providers) to meet the technical specifications. The information will be necessary for fleets and drivers to easily find a compliant ELD to use in meeting the FMCSA regulation requiring the use of ELDs.

Comments From the Public

General Summary

FMCSA published a notice in the Federal Register with a 60-day public comment period to announce this proposed ICR on October 28, 2014 (79 FR 64248). The Agency requested comments concerning the necessity of the proposed information collection, the accuracy of the estimated burden, how the quality of collected information could be enhanced and ways in which the burden could be minimized without reducing the quality of the collected information. The Agency received 19 comments. Of these comments, nine were outside the scope of this notice. Some of these comments actually responded to elements of the ELD SNPRM, rather than the registration process.

Guidance on Registration Process

Several commenters stated that there was a need for additional guidance for ELD registration. Garmin also wanted guidance on registration when an ELD sub-function may be implemented across multiple software and hardware components provided by one or more providers.

Two commenters asked who is responsible for registration and supplying the certification of conformity to the ELD functional requirements. Verigo suggested that FMCSA clarify what supporting documentation would be necessary to complete the software certification. One commenter wrote that, according to the SNPRM, only device manufacturers can register.

FMCSA Response

Registration of ELDs is the responsibility of the ELD provider. An ELD provider is the entity who manufactures the ELD, manufactures or assembles the ELD technology, certifies that the ELD complies with the functional specifications for ELDs set forth in the proposed subpart B of part 395 (including the proposed Appendix to subpart B of Part 395), and registers it on the FMCSA Web site.

Definition of Device and Other Systems With ELD Functionality

A commenter wanted clarification of what FMCSA means by device. A commenter suggested that FMCSA allow the certification and registration of individual devices or subsystems (e.g., Bluetooth device, mobile smartphone or tablet, etc.) as meeting a subset of the technical specifications. These components could be combined into compliant ELD systems.

A commenter asked how a software-based Transportation Management System would be registered.

FMCSA Response

Electronic Logging Device (ELD) means a device or technology that meets the requirements of proposed subpart B of part 395 including the proposed Appendix to subpart B of part 395—Functional Specifications for All Electronic Logging Devices (ELDs). In proposed § 395.2 it is defined as a device or technology that automatically records a driver's driving time and facilitates the accurate recording of the driver's hours of service, and that meets the requirements of subpart B of this part. Where the combination of sub-components is needed to meet this definition, the provider must register all of the components together as the ELD device.

Software Version Control

Commenters asked how software version updates would be accommodated. Vnomics recommended that the software version that is displayed be the current base or main version. Vnomics also asked FMCSA to verify that the software version required by proposed section 5.2.1(3) refers to the ELD software version that is part of a larger telematics solution.

FMCSA Response

The ELD registration process will allow providers to update and maintain their device information to accommodate software version revisions. Providers will be able to update device information and software revisions on the registration site when they deem it necessary to do so, and will continue to certify that the updated device(s) continue to meet the regulation's requirements. See SNPRM Section 5.1.2:

5.1.2. Keeping Information Current

The ELD provider must keep the information in section 5.1.1 (b) and 5.2.1 current through FMCSA's Web site.

Time To Register/Registration Information

Saucon reminded the Agency that the content of the form would affect the estimates of the time registration would take annually. Saucon could not concur with the time estimate to complete the registration process. The commenter wrote that the time estimate depends on several undefined factors, including the level of detail in Form MCSA-5893. Saucon suggested that a simple checklist of key technical points that must be met by the provider might be sufficient for the form. Saucon also asked FMCSA to clarify that certification is required at the product level, and not the individual device level.

Until all the technical specification issues in the SNPRM have been resolved and Form MCSA-5893 has been created to require the provision of substantive information demonstrating compliance, OOIDA believed that the ICR proceeding is premature. OOIDA believed the certification, with such specific information, should be updated as the rule evolves, otherwise a provider could remain on the approved list without additional verification of continued compliance.

A commenter asked how devices can be registered as compliant before the details of compliancy are published. Saucon noted that the form was not available for comment.

While the registration process itself did not impose an undue burden, Verigo was concerned that there was no estimate of the time required to complete the software certification or what would be required to be submitted to substantiate that certification. Verigo commented that the certification process is a significant undertaking and volunteered to provide its estimate to FMCSA.

FMCSA Response

As proposed in the SNPRM, the registration of ELDs requires 15 pieces of information from the providers outlined in section 5.1.1, Registering Online, and section 5.1.2, Online Certification. FMCSA conducted time trials to determine the average amount of time required to complete a simulated form with the 15 items required to register an ELD.

5.1.1 Registering Online

(a) An ELD provider developing an ELD technology must register online at a secure FMCSA Web site where the ELD provider can securely certify that its ELD is compliant with this appendix.

(b) Provider's registration must include the following information:

(1) Company name of the technology provider/manufacturer.

(2) Name of an individual authorized by the provider to verify that the ELD is compliant with this appendix and to certify it under section 5.2 of this appendix.

(3) Address of the registrant.

(4) Email address of the registrant.

(5) Telephone number of the registrant.

5.2.1. Online Certification

(a) An ELD provider registered online as described in section 5.1.1 must disclose the information in paragraph (b) of this section about each ELD model and version and certify that the particular ELD is compliant with the requirements of this appendix.

(b) The online process will only allow a provider to complete certification if the provider successfully discloses all of the following required information:

(1) Name of the product.

(2) Model number of the product.

(3) Software version of the product.

(4) An ELD identifier, uniquely identifying the certified model and version of the ELD, assigned by the ELD provider in accordance with 7.1.15.

(5) Picture and/or screen shot of the product.

(6) User's manual describing how to operate the ELD.

(7) Description of the supported and certified data transfer mechanisms and step-by-step instructions for a driver to produce and transfer the ELD records to an authorized safety official.

(8) Summary description of ELD malfunctions.

(9) Procedure to validate an ELD authentication value as described in section 7.1.14.

(10) Certifying statement describing how the product was tested to comply with FMCSA regulations.

Registration will be at the model level of the ELD, not at the individual device level. See 5.2.1(b)(2) above.

FMCSA will include procedures for provider registration of an ELD on the registration Web site. FMCSA will also provide guidance on the Web site to the provider that will contain the tools the provider will need to ensure that its ELD meets the technical specifications in part 395. This guidance will contain all requirements and procedures related to RODS data compliance. However, it will be the responsibility of each provider to ensure that its products comply with the RODS file data definitions that FMCSA provides. If the regulation evolves, the changes to the technical specification and the certification process will be updated through the notice and comment process.

In response to Verigo comments regarding the time necessary to determine whether the software meets the certification requirements, we note that the certification process is outside the scope of the current ICR, which is limited to the time required to fill out the certification information in 5.1.1 and 5.2.1 of the Appendix to 395.

ID/Authentication

Under proposed section 5.1.3, FMCSA will provide a unique ELD registration ID number that the provider will embed on the device. Saucon asked FMCSA to provide an example of the ID number, and to clarify its purpose, including when the ID number needs to be provided and displayed. It asked if the ID number could be used as evidence during inspections that a device is ELD-certified and if Saucon would receive a certificate that it could present at inspections.

FMCSA Response

The unique ELD registration ID format is outside the scope of this ICR. But, in section 7.17 of the Appendix to Subpart B of Part 395—Functional Specifications for All Electronic Logging Devices (ELDs), FMCSA defined the ELD Registration ID and proposed that the registration ID be available on the ELD during inspections. The Agency does not plan to issue certificates for certified ELDs.

Updating Existing Devices

Saucon asked how that ID number could be added to register existing, already installed AOBRDs that, through software updates, may become compliant ELDs. These AOBRDs are not easily accessible to either the manufacturer or the motor carrier.

FMCSA Response

Software updates, although outside the scope of this ICR, would most likely be provided through the connectivity of AOBRDs via their cellular connection or available online to AOBRD owners. These software updates can include the Registration ID for the newly compliant devices. Existing device providers will be able to notify owners of existing AOBRDs if their devices are capable of being updated to meet ELD requirement through software updates. These devices in turn will be able to be registered and certified by the providers on the FMCSA ELD registration Web site.

FMCSA Certified ELD List

Saucon provided a list of information that it suggested be included on any Web site storing information on ELD-certified providers. The list included the company name and contact information, a link to the provider's Web site, a descriptor noting in which industry the provider mainly works (i.e., motorcoach, trucking, etc.), and a section for comments on what the provider provides. Saucon also suggested that the provider have a username and password to access and edit the information on the Web site.

During roadside inspections and Safety Audits and Compliance Reviews, CVSA wrote that it would be critical for inspectors to accurately and quickly verify compliance. Therefore, the Agency must consider what documentation needs to be maintained as evidence of certification.

FMCSA Response

The FMCSA list of registered devices will include only the minimal information on the certified devices. The Agency outlined this in the SNPRM in Section 5.3:

5.3. Publicly Available Information

Except for the information listed under section 5.1.1 (b)(2), (4), and (5) and section 5.2.1 (b)(9), FMCSA will make the information in sections 5.1.1 and 5.2.1 for each certified ELD publicly available on a Web site to allow motor carriers to determine which products have been properly registered and certified as ELDs compliant with this appendix.

FMCSA will not provide or require “certification documents” that would be carried with the device. The ELD Registration ID will be verified through eRODS only.

De-Registration

Verigo was concerned with the ELD de-registration process and requested more information.

FMCSA Response

FMCSA will provide information regarding the de-registration process in the Final Rule.

Self-Certification

OOIDA commented that the information required of ELD manufacturers who wish to be on FMCSA's approved list of providers must be more substantive than a general self-certification of compliance with the technical specifications of the rule.

FMCSA Response

The registration of ELDs requires 15 pieces of information from the providers, as outlined in proposed section 5, ELD Registration and Certification, Section 5.1.1, Registering Online, and section 5.1.2, Online Certification. Specifically, proposed section 5.2.1(b)(10) would require a “Certifying statement describing how the product was tested to comply with FMCSA regulations.” The Agency requires this self-certification just as NHTSA requires self-certification of vehicle and parts manufacturers.

Public Comments Invited: You are asked to comment on any of the following aspects of this information collection: (1) Whether the proposed collection is necessary for the FMCSA to perform its functions; (2) the accuracy of the estimated burden; (3) ways for the FMCSA to enhance the quality, usefulness, and clarity of the collected information; and (4) ways that the burden could be minimized without reducing the quality of the collected information.

Issued under the authority of 49 CFR 1.87 on: March 26, 2015.
G. Kelly Regal,
Associate Administrator, Office of Research and Information Technology and Chief Information Officer.

[FR Doc. 2015-07669 Filed 4-2-15; 8:45 am]

BILLING CODE 4910-EX-P